DEPARTMENT OF LABOR

Employment and Training Administration

[TA-W-37,425]

SKF USA Inc., Hub Bearing United Division, Glasgow, Kentucky; Notice of Negative Determination Regarding Application for Reconsideration

By application dated June 15, 2000, one of the petitioners request administrative reconsideration of the Department's negative determination regarding eligibility to apply for Trade Adjustment Assistance (TAA), applicable to workers and former workers of the subject firm. The denial notice was signed on May 31, 2000, and published in the Federal Register on June 29, 2000 (65 FR 40134).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The workers at SKF USA Inc., Hub Bearing Unit Division, Glasgow, Kentucky, producing hub wheel bearings on a contract basis for automobile manufacturers were denied TAA because the “contributed importantly” criterion of the group eligibility requirements of Section 222 of the Trade Act of 1974, as amended, was not met. The investigation revealed that the subject firm sales increased and imports declined during the relevant time period. Layoffs occurred as the inventory levels of product mix changed with demand from subject firm's contract customers.

The petitioner feels that the petition investigation was not conducted in a proper manner and was not given the full consideration necessary in the petitioners' special case. The Department acknowledges the decision was not issued in the statutorily required 60 day time limit; a final determination for the petition, instituted on March 6, 2000, was not rendered by the Department until May 31, 2000. Additional time was required by the investigator in order to obtain all of information necessary to present the findings of the petition investigation to the Certifying Officer.

The petitioner asserts in the application for reconsideration that while sales may have increased due to a stockpile of inventory, the company has not recalled workers affected by the initial round of layoffs. The petition investigation revealed that layoffs occurred and production declined at the subject firm. Therefore, criteria (1) and (2) of the worker group eligibility requirements of Section 222 of the Trade Act of 1974 are met.

The petitioner states that there are companies abroad shipping product (like those produced by the subject firm workers) to Glasgow, Kentucky for repackaging. The petitioner states that there is reason to believe (without providing evidence) that the CDW and the EN/FN bearings produced in Glasgow are manufactured overseas and are imported to the Glasgow, Kentucky for repackaging. Import data provided by the subject firm included imports of the articles cited by the petitioner. Total company imports of articles like or directly competitive with those produced by workers in the Glasgow plant decreased during the time period covered by the investigation. Criterion (3) of the group eligibility requirements of Section 222 of the Trade Act of 1974 requires that increased imports of articles like or directly competitive with those produced by the subject firm workers contribute importantly to declines in sales or production and worker separations.

Conclusion

After review of the application and investigative findings, I conclude that there has been no error or misinterpretation of the law or of the facts which would justify reconsideration of the Department of Labor's prior decision. Accordingly, the application is denied.

Signed at Washington, DC this 7th day of July 2000.
Grant D. Beale,
Program Manager, Division of Trade Adjustment Assistance.

[FR Doc. 00-18359 Filed 7-9-00; 8:45 am]

BILLING CODE 4510-30-M